DEPARTMENT OF JUSTICE

Antitrust Division

Notice Pursuant to the National Cooperative Research and Production Act of 1993—American Association for Accreditation of Ambulatory Surgery Facilities

Notice is hereby given that, on September 14, 2004, pursuant to section 6(a) of the National Cooperative Research and Production Act of 1993, 15 U.S.C. 4301 et seq. (“the Act”), the American Association for Accreditation of Ambulatory Surgery Facilities (“AAAASF”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Association for Accreditation of Ambulatory Surgery Facilities, Gurnee, IL. The nature and scope of AAAASF's standards development activities are: the development of standards by which single-specialty and multi-specialty out-patient surgery facilities are accredited. The standards for accreditation of such surgery facilities are developed continually revised by AAAASF's committee of medical professionals.

Dorothy B. Fountain,
Deputy Director of Operations, Antitrust Division.

[FR Doc. 04-25837 Filed 11-19-04; 8:45 am]

BILLING CODE 4410-11-M